DEPARTMENT OF LABOR

Employment and Training Administration

Federal-State Unemployment Compensation Program: Certifications for 2006 Under the Federal Unemployment Tax Act

AGENCY: Employment and Training Administration, Labor.

ACTION: Notice.

SUMMARY: The Secretary of Labor signed the annual certifications under the Federal Unemployment Tax Act, 26 U.S.C. 3301 et seq., thereby enabling employers who make contributions to State unemployment funds to obtain certain credits against their liability for the Federal unemployment tax. By letter, the certifications were transmitted to the Secretary of the Treasury. The letter and certifications are printed below.

Signed in Washington, DC, November 3, 2006.
Emily Stover DeRocco,
Assistant Secretary of Labor, Employment and Training Administration.

BILLING CODE 4510-30-P

United States Department of Labor; Office of the Secretary, Washington, DC

Certification of States to the Secretary of the Treasury Pursuant to Section 3304(c) of the Internal Revenue Code of 1986

In accordance with the provisions of Section 3304(c) of the Internal Revenue Code of 1986 (26 U.S.C. 3304(c)), I hereby certify the following named States to the Secretary of the Treasury for the 12-month period ending on October 31, 2006, in regard to the unemployment compensation laws of those States which heretofore have been approved under the Federal Unemployment Tax Act:

Alabama | Nebraska
Alaska | Nevada
Arizona | New Hampshire
Arkansas | New Jersey
California | New Mexico
Colorado | New York
Connecticut | North Carolina
Delaware | North Dakota
District of Columbia | Ohio
Florida | Oklahoma
Georgia | Oregon
Hawaii | Pennsylvania
Idaho | Puerto Rico
Illinois | Rhode Island
Indiana | South Carolina
Iowa | South Dakota
Kansas | Tennessee
Kentucky | Texas
Louisiana | Utah
Maine | Vermont
Maryland | Virginia
Massachusetts | Virgin Islands
Michigan | Washington
Minnesota | West Virginia
Mississippi | Wisconsin
Missouri | Wyoming
Montana

This certification is for the maximum normal credit allowable under Section 3302(a) of the Code.

Signed at Washington, DC, on October 31, 2006.

Elaine L. Chao,
Secretary of Labor.

United States Department of Labor; Office of the Secretary, Washington, DC

Certification of State Unemployment Compensation Laws to the Secretary of the Treasury Pursuant to Section 3303(b)(1) of the Internal Revenue Code of 1986

In accordance with the provisions of paragraph (1) of Section 3303(b) of the Internal Revenue Code of 1986 (26 U.S.C. 3303(b)(1)), I hereby certify the unemployment compensation laws of the following named States, which heretofore have been certified pursuant to paragraph (3) of Section 3303(b) of the Code, to the Secretary of the Treasury for the 12-month period ending on October 31, 2006:

Alabama | Nebraska
Alaska | Nevada
Arizona | New Hampshire
Arkansas | New Jersey
California | New Mexico
Colorado | New York
Connecticut | North Carolina
Delaware | North Dakota
District of Columbia | Ohio
Florida | Oklahoma
Georgia | Oregon
Hawaii | Pennsylvania
Idaho | Puerto Rico
Illinois | Rhode Island
Indiana | South Carolina
Iowa | South Dakota
Kansas | Tennessee
Kentucky | Texas
Louisiana | Utah
Maine | Vermont
Maryland | Virginia
Massachusetts | Virgin Islands
Michigan | Washington
Minnesota | West Virginia
Mississippi | Wisconsin
Missouri | Wyoming
Montana

This certification is for the maximum additional credit allowable under Section 3302(b) of the Code.

Signed at Washington, DC, on October 31, 2006.

Elaine L. Chao,
Secretary of Labor.

[FR Doc. 06-9202 Filed 11-14-06; 8:45 am]

BILLING CODE 4510-30-P